DEPARTMENT OF ENERGY

Federal Energy Regulatory Commission

Combined Notice of Filings #1

Take notice that the Commission received the following electric rate filings:

Docket Numbers: ER10-1556-005.

Applicants: Longview Power.

Description: Supplement to Notice of Change in Status of Longview Power, LLC.

Filed Date: 5/18/12.

Accession Number: 20120518-5085.

Comments Due: 5 p.m. ET 6/8/12.

Docket Numbers: ER10-2564-001; ER10-2600-001; ER10-2289-001.

Applicants: Tucson Electric Power Company, UNS Electric, Inc., UniSource Energy Development Company.

Description: Change in Status Filing Tucson Electric Power Company, et al.

Filed Date: 5/17/12.

Accession Number: 20120517-5025.

Comments Due: 5 p.m. ET 6/7/12.

Docket Numbers: ER12-667-000.

Applicants: ITC Midwest LLC.

Description: Filing of a Refund Report to be effective N/A.

Filed Date: 5/18/12.

Accession Number: 20120518-5132.

Comments Due: 5 p.m. ET 6/8/12.

Docket Numbers: ER12-1531-001.

Applicants: AEP Texas Central Company.

Description: 20120518 TCC OATT Conc to be effective 1/1/2012.

Filed Date: 5/18/12.

Accession Number: 20120518-5135.

Comments Due: 5 p.m. ET 6/8/12.

Docket Numbers: ER12-1532-001.

Applicants: AEP Texas North Company.

Description: 20120518 TNC OATT Conc to be effective 1/1/2012.

Filed Date: 5/18/12.

Accession Number: 20120518-5158.

Comments Due: 5 p.m. ET 6/8/12.

Docket Numbers: ER12-1533-001.

Applicants: Indiana Michigan Power Company.

Description: 20120518 I&M OATT Conc to be effective 1/1/2012.

Filed Date: 5/18/12.

Accession Number: 20120518-5159.

Comments Due: 5 p.m. ET 6/8/12.

Docket Numbers: ER12-1534-001.

Applicants: Kentucky Power Company.

Description: 20120518 OATT Conc to be effective 1/1/2012.

Filed Date: 5/18/12.

Accession Number: 20120518-5163.

Comments Due: 5 p.m. ET 6/8/12.

Docket Numbers: ER12-1535-001.

Applicants: Kingsport Power Company.

Description: 20120518 OATT Conc to be effective 1/1/2012.

Filed Date: 5/18/12.

Accession Number: 20120518-5160.

Comments Due: 5 p.m. ET 6/8/12.

Docket Numbers: ER12-1536-001.

Applicants: Ohio Power Company.

Description: 20120518 OPCo OATT Conc to be effective 1/1/2012.

Filed Date: 5/18/12.

Accession Number: 20120518-5166.

Comments Due: 5 p.m. ET 6/8/12.

Docket Numbers: ER12-1537-001.

Applicants: Public Service Company of Oklahoma.

Description: 20120518 PSO OATT Conc to be effective 1/1/2012.

Filed Date: 5/18/12.

Accession Number: 20120518-5169.

Comments Due: 5 p.m. ET 6/8/12.

Docket Numbers: ER12-1538-001.

Applicants: Southwestern Electric Power Company.

Description: 20120518 SWEPCO OATT Conc to be effective 1/1/2012.

Filed Date: 5/18/12.

Accession Number: 20120518-5172.

Comments Due: 5 p.m. ET 6/8/12.

Docket Numbers: ER12-1539-001.

Applicants: Wheeling Power Company.

Description: 20120518 WPCo OATT Conc to be effective 1/1/2012 under ER12-1539 Filing Type: 130.

Filed Date: 5/18/12.

Accession Number: 20120518-5137.

Comments Due: 5 p.m. ET 6/8/12.

Docket Numbers: ER12-1540-001.

Applicants: Indiana Michigan Power Company.

Description: 20120518 I&M MBR Conc to be effective 1/1/2012.

Filed Date: 5/18/12.

Accession Number: 20120518-5144.

Comments Due: 5 p.m. ET 6/8/12.

Docket Numbers: ER12-1541-001.

Applicants: Kentucky Power Company.

Description: 20120518 KPCo MBR Conc to be effective 1/1/2012.

Filed Date: 5/18/12.

Accession Number: 20120518-5149.

Comments Due: 5 p.m. ET 6/8/12.

Docket Numbers: ER12-1542-001.

Applicants: Kingsport Power Company.

Description: 20120518 KgPCo MBR Conc to be effective 1/1/2012.

Filed Date: 5/18/12.

Accession Number: 20120518-5152.

Comments Due: 5 p.m. ET 6/8/12.

Docket Numbers: ER12-1543-001.

Applicants: Ohio Power Company.

Description: 20120518 OPCo MBR Conc to be effective 1/1/2012.

Filed Date: 5/18/12.

Accession Number: 20120518-5154.

Comments Due: 5 p.m. ET 6/8/12.

Docket Numbers: ER12-1544-001.

Applicants: Wheeling Power Company.

Description: 20120518 WPCo MBR Conc to be effective 1/1/2012.

Filed Date: 5/18/12.

Accession Number: 20120518-5156.

Comments Due: 5 p.m. ET 6/8/12.

Docket Numbers: ER12-1666-000.

Applicants: Longview Power, LLC.

Description: Supplement to April 30, 2012 filing to be effective N/A.

Filed Date: 5/18/12.

Accession Number: 20120518-5063.

Comments Due: 5 p.m. ET 6/8/12.

Docket Numbers: ER12-1816-000.

Applicants: Pacific Gas and Electric Company.

Description: Amended E&P Agreement for PG&E's Schindler 3 Project to be effective 5/21/2012.

Filed Date: 5/18/12.

Accession Number: 20120518-5177.

Comments Due: 5 p.m. ET 6/8/12.

Docket Numbers: ER12-1817-000.

Applicants: Florida Power & Light Company.

Description: FPL and Orlando Utilities Commission Service Agreement No. 307 to be effective 7/17/2012.

Filed Date: 5/18/12.

Accession Number: 20120518-5188.

Comments Due: 5 p.m. ET 6/8/12.

Docket Numbers: ER12-1818-000.

Applicants: Florida Power & Light Company.

Description: FPL and Orlando Utilities Commission Service Agreement No. 308 to be effective 7/17/2012.

Filed Date: 5/18/12.

Accession Number: 20120518-5189.

Comments Due: 5 p.m. ET 6/8/12.

Take notice that the Commission received the following electric securities filings:

Docket Numbers: ES12-34-000.

Applicants: El Paso Electric Company.

Description: Submission of El Paso Electric Company of substitute page 5 to its April 13, 2012 filed application.

Filed Date: 5/17/12.

Accession Number: 20120517-5077.

Comments Due: 5 p.m. ET 5/29/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2012.
Nathaniel J. Davis, Sr.,
Deputy Secretary.

[FR Doc. 2012-12891 Filed 5-25-12; 8:45 am]

BILLING CODE 6717-01-P